DEPARTMENT OF AGRICULTURE

Food Safety and Inspection Service

[Docket No. 04-013N]

Humane Handling and Slaughter Requirements and the Merits of a Systematic Approach To Meet Such Requirements

AGENCY: Food Safety and Inspection Service, USDA.

ACTION: Notice.

SUMMARY: All livestock establishments are required to meet requirements in the Humane Methods of Slaughter Act (HMSA), Federal Meat Inspection Act (FMIA) and implementing regulations. FSIS believes a systematic approach is beneficial in meeting these requirements and through this notice is encouraging livestock slaughter establishments to use a systematic approach to humane handling and slaughter to best ensure that they meet the requirements of the HMSA, FMIA, and implementing regulations. With a systematic approach, establishments focus on treating livestock in such a manner as to minimize excitement, discomfort, and accidental injury the entire time they hold livestock in connection with slaughter.

FOR FURTHER INFORMATION CONTACT: Lynn Dickey, Ph.D., Director, Regulations and Petitions Policy Staff, Office of Policy, Program and Employee Development, Food Safety and Inspection Service, Cotton Annex Building, 300 12th Street, SW., Room 112, Washington, DC 20250-3700; (202) 720-5627.

SUPPLEMENTARY INFORMATION:

The HMSA, the FMIA, and FSIS Regulations on Humane Handling and Slaughter of Livestock

The HMSA of 1978 (7 U.S.C. 1901 et seq.) requires that humane methods be used for handling and slaughtering livestock. The HMSA provides that two methods of slaughter and handling are humane. Under the first humane method, all livestock are rendered insensible to pain by a single blow or gunshot or an electrical, chemical, or other means that is rapid and effective, before being shackled, hoisted, thrown, cast, or cut. Under the second humane method, slaughtering is in accordance with the ritual requirements of the Jewish faith or of any other religious faith that prescribes a method of slaughter whereby the animal suffers loss of consciousness by anemia of the brain caused by the simultaneous and instantaneous severance of the carotid arteries with a sharp instrument.

In the HMSA, Congress found “that the use of humane methods in the slaughter of livestock prevents needless suffering; results in safer and better working conditions for persons engaged in the slaughtering industry; brings about improvement of products and economies in slaughtering operations; and produces other benefits for producers, processors, and consumers which tend to expedite an orderly flow of livestock and livestock products in interstate and foreign commerce.”

The HMSA is referenced in the FMIA (21 U.S.C. 603) and is implemented by FSIS humane handling and slaughter regulations found at 9 CFR part 313. The FMIA provides that, for the purposes of preventing inhumane slaughter of livestock, the Secretary of Agriculture will assign inspectors to examine and inspect the methods by which livestock are slaughtered and handled in connection with slaughter in slaughtering establishments subject to inspection (21 U.S.C. 603(b)). Therefore, establishments must meet the humane handling and slaughter requirements in the regulations the entire time they hold livestock in connection with slaughter.

The Reason FSIS is Issuing This Notice at This Time

FSIS is issuing this notice because there has been considerable congressional and public interest about the humane treatment of animals, and because the number of humane handling noncompliance incidents documented by FSIS in establishments has increased over the last three years.

In recent years, Congress has taken various actions to strengthen USDA's resources and to ensure that the agency enforces the humane handling and slaughter provisions of the HMSA and the FMIA. In 2001, Congress provided funds for the agency to enhance verification and enforcement of humane slaughter practices. In response, FSIS created the position of District Veterinary Medical Specialist (DVMS) in each of the FSIS district offices. The DVMSs are the primary contacts for all humane handling and slaughter issues, and they are the liaisons between the district offices and headquarters. They are responsible for on-site coordination of nationally prescribed humane slaughter procedures and verification of humane handling activities, as well as for disseminating directives, notices, and other information related to the HMSA.

In a recent congressional conference report for fiscal year 2003 appropriations (House Conference Report. No. 108-10 (2003)), the conferees directed the United States Government Accountability Office (GAO) to review and report to the appropriations committees on the scope and frequency of humane slaughter violations and to provide recommendations on the extent to which additional resources for inspection personnel, training, and other agency functions are needed to properly regulate slaughter facilities.

In response to this congressional request, GAO analyzed the scope and frequency of humane handling and slaughter noncompliance incidents documented by FSIS inspection program personnel and found that the number of documented records for noncompliance incidents increased from January 2001 through March 2003. Similarly, the number of noncompliance records documenting relatively minor violations increased as well. FSIS attributed the increase in part to the enhanced awareness of humane handling and noncompliance documentation requirements on the part of the FSIS inspection program personnel (based in part on the efforts of the DVMSs).

In addition to this congressional interest, FSIS has received over 20,000 letters from the public (individuals, consumer organizations, and animal welfare organizations) over the last few years expressing concerns regarding the humane treatment of livestock. Public interest regarding the humane treatment of livestock continues to be high.

FSIS has sought to demonstrate its commitment to humane handling and slaughter by taking a number of actions in addition to creating the position of DVMS. The Agency issued FSIS Notice 50-02, ISP Procedure Code for Humane Slaughter in November 2002. This Notice directs FSIS veterinarians and FSIS inspection program personnel to document violations of humane handling requirements on a Noncompliance Record (NR) using a procedure code that was created solely to document violations of humane handling and slaughter requirements. Use of this code is allowing the Agency to more accurately document, track, and address violations of the HMSA.

In November of 2003, the Agency issued a directive to all FSIS inspection program personnel that provides specific, detailed information about requirements of the HMSA to ensure that verification and enforcement are clearly and uniformly understood. In June 2004, FSIS issued a FSIS Notice to provide FSIS inspection program personnel with clarification regarding what information they are to record in Humane-handling Activities Tracking (HAT) under the Electronic Animal Disposition Report System (eADRS), and to remind them about the information that they are to include on NRs issued for humane handling noncompliances.

A Systematic Approach to Humane Handling and Slaughter

Establishments need to implement and maintain a systematic approach to humane handling and slaughter to best assure compliance with the HMSA, FMIA and implementing regulations. To develop and maintain a systematic approach to meet the humane handling and slaughter requirements, establishments should:

(1) Conduct an initial assessment of where and under what circumstances livestock may experience excitement, discomfort, or accidental injury while being handled in connection with slaughter and, except for establishments conducting ritual slaughter, where and under what circumstances stunning problems may occur;

(2) Design facilities and implement practices that will minimize excitement, discomfort, and accidental injury to livestock;

(3) Evaluate periodically their handling methods to ensure they minimize excitement, discomfort, or accidental injury and, except for establishments conducting ritual slaughter, evaluate periodically their stunning methods to ensure that all livestock are rendered insensible to pain by a single blow; and

(4) Improve handling practices and modify facilities when necessary to minimize excitement, discomfort, and accidental injury to livestock.

In the first step of a systematic approach, establishments should conduct an assessment of where handling and stunning problems may occur. Establishments should consider such factors as (1) whether the movement of livestock is done with a minimum of excitement and discomfort to the animal and at a suitable pace, (2) whether the particular livestock's genetics, instincts, and behavior are taken into account in the handling of livestock in the establishment, (3) whether electric prods and other implements are used as little as possible to move animals within the establishment, (4) whether animals have access to water, (5) whether there is sufficient room in the holding pens for animals that are held overnight, (6) whether training is provided for establishment personnel in the appropriate and proper use of restraints and prods, and (7) whether potential weather and climatic conditions of the locale, especially for disabled livestock in the establishment, will lead to the inhumane treatment of animals.

Establishments should also assess the stunning method used for its effectiveness in rendering animals immediately unconscious and to ensure that animals are being properly stunned before being slaughtered. Establishments should also assess the training for establishment personnel in the appropriate use of stunning and slaughtering equipment.

In the second step of a systematic approach, establishments should determine if they are in compliance with the regulatory requirements by analyzing whether (1) the pens, driveways, and ramps are designed and maintained to prevent injury or pain to the animals,(2) the pens are free of loose boards or openings, so that the head, feet or legs of an animal will not be injured, (3) the floors of pens, ramps, and driveways are constructed so that an animal is not likely to fall (e.g., using cleated or waffled floors or sand on the floors), and (4) driveways are designed so that sharp turns or sudden reversals of direction are minimized, so that they are not likely to cause injury to the animals.

In the third step of a systematic approach, establishments should evaluate periodically their handling methods to ensure that their employees are in fact minimizing excitement, discomfort, or accidental injury to livestock. Establishments should also periodically evaluate their stunning methods to ensure that they are working effectively to render all animals insensible to pain by a single blow.

If an establishment finds evidence of a problem during the first three steps of the evaluation process, it should follow step 4 of the systematic approach and improve its handling practices or modify its facilities to minimize the excitement, discomfort, or accidental injury to livestock.

(Some of the factors recommended above are based on information from Dr. Temple Grandin—see the references at the end of this Notice).

When conducting the four recommended steps outlined above, establishments should consider all factors relevant to humane handling and slaughter requirements for the entire time that livestock is held in connection with slaughter.

Through a systematic approach, establishments that do not conduct ritual slaughter will best ensure that their stunning methods render all livestock insensible to pain by a single blow. In addition, FSIS is recommending the systematic approach discussed above because it ensures that establishments take into account any new conditions in the establishment that warrant changes to facilities or existing handling or slaughter procedures.

FSIS has included a list of references that may assist establishments in considering means of assessing or improving their handling and slaughter procedures.

Additional Public Notification

Public awareness of all segments of rulemaking and policy development is important. Consequently, in an effort to ensure that the public and in particular minorities, women, and persons with disabilities, are aware of this notice, FSIS will announce it on-line through the FSIS web page located at http://www.fsis.usda.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS web page. Through Listserv and the web page, FSIS is able to provide information to a much broader, more diverse audience.

References

The following sources are available for review in the FSIS Docket Room, Cotton Annex, 300 12th Street, SW., Room 102, Washington, DC 20250 between 8:30 a.m. and 4 p.m., Monday through Friday.

Baker, L. (2004). Humane slaughter systems. Unpublished research paper, Virginia-Maryland Regional College of Veterinary Medicine, Blacksburg, Virginia.

D'Souza, D.N., Warner, R.D., Dunshea, F.R. & Leury, B.J. (1998). Effect of on-farm and pre-slaughter handling of pigs on meat quality. Australian Journal of Agricultural Research, 49, 1021-1025.

Grandin, T. (2003). AMI Meat Institute Foundation: Good management practices for animal handling and stunning at http://www.grandin.com/ami.audit.guidelines.html.

Grandin, T. (1996). Animal welfare in slaughter plants. Research paper presented at the 29th Annual Conference of American Association of Bovine Practitioners. Proceedings, pages 22-26.

Grandin, Temple Web Page. Available at: http://www.grandin.com.

Done at Washington, DC on September 3, 2004.
Barbara J. Masters,
Acting Administrator.

[FR Doc. 04-20431 Filed 9-8-04; 8:45 am]

BILLING CODE 3410-DM-P